DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995:

Proposed Project: Maternal and Child Health Services Title V Block Grant Program—Guidance and Forms for the Title V Application/Annual Report, OMB No. 0915-0172: Revision

The Health Resources and Services Administration (HRSA) proposes to revise the Maternal and Child Health Services Title V Block Grant Program—Guidance and Forms for the Application/Annual Report. The guidance is used annually by the 50 States and 9 jurisdictions in making application for Block Grants under Title V of the Social Security Act, and in preparing the required annual report. The proposed revisions follow and build on extensive consultation received from a workgroup convened to provide suggestions to improve the guidance and forms. In addition, the proposed revisions are editorial and ttechnical revisions based on the experience of the States and jurisdictions in using the guidance and forms since 2003.

Two new performance measures were developed (obesity in children aged 2 to 5 years; and smoking in the last trimester of pregnancy) and two existing performance measures were either removed entirely (low birth weight) or incorporated into an existing health status capacity indicator (eligible children receiving services under Medicaid). This will result in no net increase in the number of performance measures. In addition, the directions in the guidance for the Health Systems Capacity Indicators (HSCI) were expanded to enhance clarification. This proposed change will make it easier for the States to report on these indicators.

The existing electronic system used by the States to submit their Block Grant Application and Annual Report has also been enhanced. First, using the electronic system, the narrative from the prior year's submission is available online in the system so that the applicant need only edit those sections that have changed. This feature reduces burden by avoiding duplicating material. For national performance measures 2-6, the data obtained from the National Survey of Children with Special Health Care Needs are pre-populated which eliminates the need to retrieve and enter data from this survey, unless the States choose to use another data source. Also, notes from the prior year's submission are available to the States allowing for more efficient updating through edits rather then recreating them. Data are entered once (in a data entry field on a given form), and where those data are referenced elsewhere, the value is copied and displayed. The electronic system includes an automatic character counter that tells the user how many characters the States have left. This eliminates the need to independently track entries against the Maternal and Child Health Bureau's limits for each section to ensure compliance. The electronic system includes forms status checker and data alerts, which conduct automated checks on data validity, data consistency, and application completeness, as well as value tolerance checks. This feature facilitates application review and eliminates much of the previously required data cleaning activity. Also, this allows the user to obtain an immediate update at any point in time on the completeness and compliance of the application, reducing the need to conduct a review of the application. Data are saved directly to the HRSA server so that no manual transmission is required. Finally, the automatic commitment of data to the HRSA server eliminates the need for version control or data migration.

The estimated average annual burden per year is as follows for the Annual Report and Application without the Needs Assessment:

Type of respondent | Number of respondents | Responses per respondent | Burden hours per response | Total burden hours
States | 50 | 1 | 297 | 14,868
Jurisdictions | 9 | 1 | 120 | 1,077
Total | 59 |  |  | 15,945

Burden in the 3 Year Reporting Cycle for the Annual Report and Application with Needs Assessment is:

Needs assessment | Number of respondents | Burden hours per response | Responses per respondent | Total burden hours
States/Jurisdictions | 59 | 378.5 | 1 | 22,303
Total Average Burden for 3 year cycle |  |  |  | 18,064

Written comments and recommendations concerning the proposed information collection should be sent within 30 days of this notice to: John Kraemer, Human Resources and Housing Branch, Office of Management and Budget, New Executive Office Building, Room 10235, Washington, DC 20503.

Dated: February 6, 2006.
Tina M. Cheatham,
Director, Division of Policy Review and Coordination.

[FR Doc. E6-1921 Filed 2-10-06; 8:45 am]

BILLING CODE 4165-15-P